DEPARTMENT OF THE INTERIOR

Fish and Wildlife Service

Letters of Authorization to Take Marine Mammals

AGENCY: Fish and Wildlife Service, Interior.

ACTION: Notice of issuance.

SUMMARY: In accordance with the Marine Mammal Protection Act of 1972 (MMPA) as amended, notice is hereby given that Letters of Authorization to take polar bears incidental to oil and gas industry exploration activities in the Beaufort Sea and adjacent northern coast of Alaska have been issued.

FOR FURTHER INFORMATION CONTACT: Mr. Craig Perham at the Fish and Wildlife Service, Marine Mammals Management Office, 1011 East Tudor Road, Anchorage, Alaska 99503, (800) 362-5148 or (907) 786-3810.

SUPPLEMENTARY INFORMATION: A Letter of Authorization has been issued to the following companies in accordance with Fish and Wildlife Service Federal Rules and Regulations “Marine Mammals; Incidental Take During Specified Activities (68 FR 66744; November 28, 2003)” under section 101(a)(5)(A) of the MMPA and the Fish and Wildlife Service implementing regulations at 50 CFR 18.27(f)(3):

Company | Activity | Location | Date issued
Veritas DGC Land Inc | Exploration | 2005 winter seismic | Dec 16, 2004.
Cruz Construction | Development | 2005 winter transport | Dec 16, 2004.
ConocoPhillips Alaska, Inc | Exploration | Kokoda 3, 4, 5 | Dec 16, 2004.
ConocoPhillips Alaska, Inc | Exploration | Defiance 1 | Dec 16, 2004.
ConocoPhillips Alaska, Inc | Exploration | Bounty 1 | Dec 16, 2004.
ConocoPhillips Alaska, Inc | Exploration | Noatak 1 | Dec 16, 2004.
ConocoPhillips Alaska, Inc | Exploration | Trailblazer H-1 | Dec 16, 2004.
Kerr-McGee Oil and Gas Corp | Exploration | Nikaitchuq #2, 3, 5 | Dec 22, 2004.
Pioneer Natural Resources Ak | Development | Gwydyr Bay | Jan 10, 2005.
ConocoPhillips Alaska, Inc | Exploration | Iapetus 2 | Jan 24, 2005.
Brooks Range Petroleum Corp | Exploration | Sak River #1 | Jan 28, 2005.
ConocoPhillips Alaska, Inc | Development | CD3, CD4 | Feb 7, 2005.
Ecology and Environment, Inc | Development | JW Dalton | Feb 14, 2005.

Dated: March 16, 2005.
Gary Edwards,
Deputy Regional Director.

[FR Doc. 05-7409 Filed 4-12-05; 8:45 am]

BILLING CODE 4310-55-P